DEPARTMENT OF LABOR

Employment and Training Administration

[TA-W-74,714]

Quest Diagnostics, Inc. Information Technology Help Desk Services Including On-Site Leased Workers From Modis, West Norriton, PA; Amended Certification Regarding Eligibility To Apply for Worker Adjustment Assistance

In accordance with Section 223 of the Trade Act of 1974, as amended (“Act”), 19 U.S.C. 2273, the Department of Labor issued a Certification of Eligibility to Apply for Worker Adjustment Assistance on December 6, 2010, applicable to workers of Quest Diagnostics, Inc., Information Technology Help Desk Services, West Norriton, Pennsylvania. The workers are engaged in activities related to the supply of internal information technology (IT) support services. The notice will be published soon in the Federal Register.

At the request of a petitioner, the Department reviewed the certification for workers of the subject firm. The company reports that workers leased from Modis were employed on-site at the West Norriton, Pennsylvania location of Quest Diagnostics, Inc., Information Technology Help Desk Services. The Department has determined that these workers were sufficiently under the operational control of Quest Diagnostics, Inc., Information Technology Help Desk Services to be considered leased workers.

Based on these findings, the Department is amending this certification to include workers leased from Modis working on-site at the West Norriton, Pennsylvania location of Quest Diagnostics, Inc., Information Technology Help Desk Services.

The amended notice applicable to TA-W-74,714 is hereby issued as follows:

All workers of Quest Diagnostics, Inc., Information Technology Help Desk Services, including on-site leased workers from Modis, West Norriton, Pennsylvania, who became totally or partially separated from employment on or after October 3, 2009, through December 6, 2012, and all workers in the group threatened with total or partial separation from employment on the date of certification through two years from the date of certification, are eligible to apply for adjustment assistance under Chapter 2 of Title II of the Trade Act of 1974, as amended.

Signed at Washington, DC this 22nd day of December 2010.
Del Min Amy Chen,
Certifying Officer, Office of Trade Adjustment Assistance.

[FR Doc. 2011-516 Filed 1-11-11; 8:45 am]

BILLING CODE 4510-FN-P